DEPARTMENT OF TRANSPORTATION

Pipeline and Hazardous Materials Safety Administration

Notice of Applications for Modification of Special Permit

AGENCY: Pipeline and Hazardous Materials Safety Administration, DOT.

ACTION: List of Applications for Modification of Special Permit.

SUMMARY: In accordance with the procedures governing the application for, and the processing of, special permits from the department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits e.g. to provide for additional hazardous materials, packaging design changes, additional mode of transportation, etc.) are described in footnotes to the application number. Application numbers with the suffix “M” demote a modification request. There applications have been separated from the new applications for special permits to facilitate processing.

DATES: Comments must be received on or before February 9, 2006.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC, or at http://dms.dot.gov.

This notice of receipt of applications for modification of special permits is published in accordance with Part 107 of the Federal hazardous materials transportation law (49 U.S.C. 5117(b); 49 CFR 1.53(b)).

Issued in Washington, DC, on January 18, 2006.
R. Ryan Posten,
Chief, Special Permits Program, Office of Hazardous Materials, Special Permits & Approvals.

Application No. | Docket No. | Applicant | Regulation(s) affected | Modification of special permit | Nature of special permit thereof
Modification Special Permits
11579-M |  | Dyno Nobel, Inc. Salt Lake City, UT | 49 CFR 177.848(e)(2); 177.848(g)(3) | 11579 | To modify the special permit to authorize the transportation of additional Class 8 materials in non-DOT specification metal containers.
11691-M |  | Sensient Flavors, Inc. Indianapolis, IN | 49 CFR 176.83(d); 176.331; 176.800(a) | 11691 | To modify the special permit to update a proper shipping description and authorize the transportation of a Class 9 material with Class 3 and Class 8 materials not subject to the segregation requirements for vessel storage when shipped in the same transport vehicle.
12844-M |  | Delphi Corporation Vandalia, OH | 49 CFR 173.301(h); 173.302(a); 175.3 | 12844 | To modify the special permit to authorize an increase in maximum service pressure of the non-DOT specification cylinder design.
12920-M |  | Epichem, Inc. Haverhill, MA | 49 CFR 173.181(c) | 12920 | To modify the special permit to authorize VCR connections and allow both the 10 and 20 liter drums to be made of 304 or 316 stainless steel.
14183-M |  | LND, Inc. Oceanside, NY | 49 CFR 173.302a, 172.101(9A) | 14183 | To modify the special permit to authorize additional design types, reduce the minimum volumetric capacity of certain design types, and authorize titanium as an additional material of construction.
14282-M |  | Dyno Nobel Transportation, Inc. Salt Lake City, UT | 49 CFR 173.835(g) | 14282 | To reissue the special permit originally issued on an emergency basis for the transportation in commerce of certain detonators and detonator assemblies on the same motor vehicle with other Class 1 explosives when they are in separate and isolated cargo-carrying compartments powered by the same tractor.

[FR Doc. 06-699 Filed 1-24-06; 8:45 am]

BILLING CODE 4909-60-M